DEPARTMENT OF AGRICULTURE

Animal and Plant Health Inspection Service

[Docket No. 03-112-1]

Vaccination of Wild Bison; Availability of an Environmental Assessment and Finding of No Significant Impact

AGENCY: Animal and Plant Health Inspection Service, USDA.

ACTION: Notice of availability and request for comments.

SUMMARY: We are advising the public that an environmental assessment and finding of no significant impact have been prepared by the Animal and Plant Health Inspection Service relative to subcutaneous vaccination of wild, free-ranging bison in the Greater Yellowstone Area with Strain RB51 vaccine to help prevent the spread of brucellosis. The environmental assessment documents our review and analysis of environmental impacts associated with the vaccination and provides a basis for our conclusion that vaccination of the bison will not have a significant impact on the quality of the human environment. We are making the environmental assessment and finding of no significant impact available to the public for review and comment.

DATES: We will consider all comments that we receive on or before January 5, 2004.

ADDRESSES: You may submit comments by postal mail/commercial delivery or by e-mail. If you use postal mail/commercial delivery, please send four copies of your comment (an original and three copies) to: Docket No. 03-112-1, Regulatory Analysis and Development, PPD, APHIS, Station 3C71, 4700 River Road Unit 118, Riverdale, MD 20737-1238. Please state that your comment refers to Docket No. 03-112-1. If you use e-mail, address your comment to regulations@aphis.usda.gov. Your comment must be contained in the body of your message; do not send attached files. Please include your name and address in your message and “Docket No. 03-112-1” on the subject line.

To obtain copies of the environmental assessment and finding of no significant impact, contact the National Center for Animal Health Programs, Veterinary Services, APHIS, 4700 River Road Unit 43, Riverdale, MD 20737-1231; (301) 734-4923. The documents are also available on the Internet at http://www.aphis.usda.gov/ppd/es/vsdocs.html.

You may also read the environmental assessment and finding of no significant impact, and any comments we receive on those documents, in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Arnold Gertonson, Yellowstone Brucellosis Coordinator, National Center for Animal Health Programs, VS, APHIS, Building B MSC 3E13, 2150 Centre Avenue, Fort Collins, CO 80526-8117; (970) 494-7363.

SUPPLEMENTARY INFORMATION:

Background

Brucellosis is a contagious disease caused by Brucella bacteria. It can infect cattle, bison, elk, other animals, and humans. In cattle, bison, and elk, the specific disease organism is Brucella abortus. In infected cattle and bison, the disease organism localizes in lymph nodes, reproductive organs, and/or the udder, causing abortion in females and systemic effects in both males and females. Brucellosis is transmitted through contaminated and untreated milk and milk products and through direct contact with an infected aborted fetus or calf, afterbirth, or other reproductive tract discharges.

Brucellosis is considered one of the most serious diseases of livestock. While its hallmark symptom is abortion, brucellosis can also result in decreased milk production, weight loss in animals, infertility, and lameness. The Animal and Plant Health Inspection Service (APHIS) has worked for years to eliminate this disease from the United States.

The only known reservoir of Brucella abortus in the United States occurs in wild, free-ranging populations of bison and elk in the Greater Yellowstone Area (GYA), which comprises areas of Idaho, Montana, and Wyoming. The significance of wildlife in the GYA as a reservoir of brucellosis and potential source of infection for cattle in the GYA has been widely recognized. Additionally, free-ranging bison herds in the GYA are a natural resource of great importance.

To address the issue of brucellosis in the GYA, the U.S. Department of the Interior's National Park Service, the State of Montana, and their cooperators (including the U.S. Department of Agriculture) developed an Interagency Bison Management Plan for the bison herd in Yellowstone National Park (YNP). One of the disease management requirements of the plan is for eligible bison to be vaccinated against brucellosis.

The Montana Department of Livestock (MDOL) has requested APHIS's assistance with the vaccination against brucellosis of wild, free-ranging bison calves and non-pregnant yearlings that leave YNP and migrate onto State, private, or other Federal lands. The MDOL anticipates starting bison vaccination as early as this winter, using Strain RB51 vaccine, when bison begin to leave YNP in search of vegetation.

APHIS has completed an environmental assessment (EA) that examines the potential environmental effects of APHIS's involvement in the vaccination described above. Our review and analysis are documented in detail in an EA entitled “Subcutaneous Vaccination of Wild, Free-Ranging Bison in the Greater Yellowstone Area; Environmental Assessment (November 2003).” Based on that EA, APHIS has determined that subcutaneous vaccination of wild, free-ranging bison of the GYA with Strain RB51 vaccine will not significantly impact human health or the environment. That determination is set forth in a document titled “Finding of No Significant Impact for Subcutaneous Vaccination of Wild, Free-Ranging Bison in the Greater Yellowstone Area; Environmental Assessment (November 2003).”

We are making the EA and finding of no significant impact (FONSI) available to the public for review and comment. (Instructions for obtaining copies of the EA and FONSI are included under the heading ADDRESSES at the beginning of this notice.) We will consider all comments on the EA and FONSI that we receive on or before the date listed under the heading DATES at the beginning of this notice. Following the close of the comment period, we will publish a notice in the Federal Register in which we will discuss any issues raised by commenters.

The EA and FONSI have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and

(4) APHIS' NEPA Implementing Procedures (7 CFR part 372).

Done in Washington, DC, this 2nd day of December, 2003.
Kevin Shea,
Acting Administrator, Animal and Plant health Inspection Service.

[FR Doc. 03-30237 Filed 12-4-03; 8:45 am]

BILLING CODE 3410-34-P